DEPARTMENT OF ENERGY

Federal Energy Regulatory Commission

Notice of Ferc Staff Attendance at Various MISO-Related Meetings

December 1, 2004.

The Federal Energy Regulatory Commission hereby gives notice that members of its staff may attend the following meetings involving the Midwest Independent Transmission System Operator, Inc. (MISO), noted below:

Organization of MISO States Annual Meeting—December 9, 2004, 10:30 a.m.-3 p.m. (e.s.t.). Lakeside Conference Center (directly across from MISO's headquarters), 630 West Carmel Drive, Carmel, IN 46032.

MISO Advisory Committee Meetings (Wednesdays, 10 a.m.-4 p.m.) and MISO Board of Directors Meetings (Thursdays, 8:30 a.m.-9:45 p.m.):

January 19-20, 2005;

February 16-17, 2005;

March 16-17, 2005;

April 20-21, 2005;

May 18-19, 2005;

June 15-16, 2005;

July 20-21, 2005;

August 17-18, 2005;

September 14-15, 2005;

October 19-20, 2005;

November 16-17, 2005;

December 7-8, 2005.

Advisory Committee meetings are held at: Lakeside Conference Center (directly across from MISO's headquarters), 630 West Carmel Drive, Carmel, IN 46032.

The Board of Directors meetings are held at: 701 City Center Drive (MISO Headquarters), Carmel, IN 46032.

The discussions may address matters at issue in the following proceedings:

Docket No. ER04-691 and EL04-104, Midwest Independent Transmission System Operator, Inc., et al.;

Docket No. EL02-65-000, et al., Alliance Companies, et al.;

Docket No. RT01-87-000, et al., Midwest Independent Transmission System Operator, Inc.;

Docket No. ER03-323, et al., Midwest Independent Transmission System Operator, Inc.;

Docket No. ER03-1118, Midwest Independent Transmission System Operator, Inc.;

Docket No. ER04-375, Midwest Independent Transmission System Operator, Inc., et al.;

Docket Nos. EL04-43 and EL04-46, Tenaska Power Services Co. and Cargill Power Markets, LLC v. Midwest Independent Transmission System Operator, Inc.

These meetings are open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E4-3504 Filed 12-6-04; 8:45 am]

BILLING CODE 6717-01-P